DEPARTMENT OF THE INTERIOR

National Park Service

[N6505; NPS-WASO-NAGPRA-NPS0041048; PPWOCRADN0-PCU00RP14.R50000]

Notice of Intended Disposition: U.S. Department of Agriculture, Forest Service, National Forests in Mississippi, Jackson, MS

AGENCY: National Park Service, Interior.

ACTION: Notice.

SUMMARY: In accordance with the Native American Graves Protection and Repatriation Act (NAGPRA), the U.S. Department of Agriculture, Forest Service, National Forests in Mississippi intends to carry out the disposition of unassociated funerary objects removed from Federal or Tribal lands to the lineal descendants, Indian Tribe, or Native Hawaiian organization with priority for disposition in this notice.

DATES: Disposition of the cultural items in this notice may occur on or after October 14, 2025. If no claim for disposition is received by September 14, 2026, the cultural items in this notice will become unclaimed cultural items.

ADDRESSES: Send written claims for disposition of the cultural items in this notice to William MacNeill, Heritage Program Manager, National Forests in Mississippi, 6425 Lakeover Road, Suite A, Jackson, MS 39213, email william.l.macneill@usda.gov.

SUPPLEMENTARY INFORMATION: This notice is published as part of the National Park Service's administrative responsibilities under NAGPRA. The determinations in this notice are the sole responsibility of the National Forests in Mississippi and additional information on the cultural items in this notice, including the results of consultation, can be found in the related records. The National Park Service is not responsible for the identifications in this notice.

Abstract of Information Available

Based on the information available, 37 boxes of material that includes 25 boxes of artifacts and 12 boxes of soil samples have been identified as unassociated funerary objects coming from the Owl Creek Mounds/Shiloh Mounds/22Cs502 site that is located on the Trace Unit of the Tombigbee National Forest (NFMS) in Chickasaw County, Mississippi. This collection was the results of a series of Mississippi State University archaeological field schools in 1991 and 1992 that reexamined the site. A large portion of the 25 boxes of artifacts include fine mesh artifacts including ceramic sherds, lithic flakes and projectile points, some wood and seed charcoal, and a limited collection of faunal remains.

The Owl Creek Mound Site is located within the historical and ancestral lands of the Chickasaw. This site is located within several miles of Tokshish, a historic Chickasaw village; and the Monroe Mission, a Presbyterian mission to the Chickasaw. Both were located on the old Natchez Trace. Several Chickasaw families also lived within two miles of the Owl Creek Site. Additionally, a known historical removal route, the Memphis to Cotton Gin Port Road, has been identified within the boundary of the site. This adds another layer of cultural significance for the Chickasaw, Choctaw, and Muscogee Creek who traveled this road during the removal period.

Determinations

The National Forests in Mississippi has determined that:

• The 37 boxes of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The Chickasaw Nation has priority for disposition of the cultural items described in this notice.

Claims for Disposition

Written claims for disposition of the cultural items in this notice must be sent to the appropriate official identified in this notice under ADDRESSES. If no claim for disposition is received by September 14, 2026, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after October 14, 2025. If competing claims for disposition are received, the National Forests in Mississippi must determine the most appropriate claimant prior to disposition. Requests for joint disposition of the cultural items are considered a single request and not competing requests. The National Forests in Mississippi is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: August 29, 2025.
Melanie O'Brien,
Manager, National NAGPRA Program.

[FR Doc. 2025-17632 Filed 9-11-25; 8:45 am]

BILLING CODE 4312-52-P